DEPARTMENT OF HOMELAND SECURITY

Federal Emergency Management Agency

[Docket ID FEMA-2020-0002; Internal Agency Docket No. FEMA-B-2073]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Tuscaloosa | City of Northport (20-04-4421P). | The Honorable Donna Aaron, Mayor, City of Northport, 3500 McFarland Boulevard, Northport, AL 35476. | City Hall, 3500 McFarland Boulevard, Northport, AL 35476. | https://msc.fema.gov/portal/advanceSearch. | Feb. 2, 2021 | 010202
Tuscaloosa | Unincorporated areas of Tuscaloosa County (20-04-4421P). | The Honorable Rob Robertson, Probate Judge, Tuscaloosa County, 714 Greensboro Avenue, Tuscaloosa, AL 35401. | Tuscaloosa County Public Works Department, 2810 35th Street, Tuscaloosa, AL 35401. | https://msc.fema.gov/portal/advanceSearch. | Feb. 2, 2021 | 010201
Colorado:
Boulder | City of Boulder (20-08-0632P). | The Honorable Sam Weaver, Mayor, City of Boulder, P.O. Box 791, Boulder, CO 80306. | Central Records Department, 1777 Broadway Street, Boulder, CO 80302. | https://msc.fema.gov/portal/advanceSearch. | Feb. 19, 2021 | 080024
Boulder | Unincorporated areas of Boulder County (20-08-0632P). | The Honorable Deb Gardner, Chair, Boulder County Board of Commissioners, P.O. Box 471, Boulder, CO 80306. | Boulder County Department of Public Works, 1739 Broadway, Suite 300, Boulder, CO 80306. | https://msc.fema.gov/portal/advanceSearch. | Feb. 19, 2021 | 080023
Welder | City of Greeley (20-08-0390P). | The Honorable John Gates, Mayor, City of Greeley, 1000 10th Street, Greeley, CO 80631. | City Hall, 1000 10th Street, Greeley, CO 80631. | https://msc.fema.gov/portal/advanceSearch. | Feb. 16, 2021 | 080184
Florida:
Broward | City of Fort Lauderdale (19-04-3955P). | The Honorable Dean J. Trantalis, Mayor, City of Fort Lauderdale, 100 North Andrews Avenue, 8th Floor, Fort Lauderdale, FL 33311. | Department of Sustainable Development, 700 Northwest 19th Avenue, Fort Lauderdale, FL 33311. | https://msc.fema.gov/portal/advanceSearch. | Mar. 1, 2021 | 125105
Broward | City of Tamarac (19-04-3955P). | The Honorable Michelle J. Gomez, Mayor, City of Tamarac, 7525 Northwest 88th Avenue, Tamarac, FL 33321. | City Hall, 7525 Northwest 88th Avenue, Tamarac, FL 33321. | https://msc.fema.gov/portal/advanceSearch. | Mar. 1, 2021 | 120058
Leon | City of Tallahassee (19-04-5234P). | The Honorable John E. Dailey, Mayor, City of Tallahassee, 300 South Adams Street, Tallahassee, FL 32301. | Stormwater Management Department, 408 North Adams Street, Tallahassee, FL 32301. | https://msc.fema.gov/portal/advanceSearch. | Feb. 22, 2021 | 120144
Leon | Unincorporated areas of Leon County (19-04-5234P). | The Honorable Bryan Desloge, Chairman, Leon County Commission, 301 South Monroe Street, Tallahassee, FL 32301. | Leon County Department of Development Support and Environmental Management, 435 North Macomb Street, 2nd Floor, Tallahassee, FL 32301. | https://msc.fema.gov/portal/advanceSearch. | Feb. 22, 2021 | 120143
Monroe | City of Marathon (20-04-4546P). | The Honorable Steve Cook, Mayor, City of Marathon, 9805 Overseas Highway, Marathon, FL 33050. | Planning Department, 9805 Overseas Highway, Marathon, FL 33050. | https://msc.fema.gov/portal/advanceSearch. | Feb. 16, 2021 | 120681
Monroe | Unincorporated areas of Monroe County (20-04-4048P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Feb. 22, 2021 | 125129
Monroe | Unincorporated areas of Monroe County (20-04-4807P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Feb. 16, 2021 | 125129
Palm Beach | Village of Royal Palm Beach (20-04-3502P). | The Honorable Fred Pinto, Mayor, Village of Royal Palm Beach, 1050 Royal Palm Beach Boulevard, Royal Palm Beach, FL 33411. | Village Hall, 1050 Royal Palm Beach Boulevard, Royal Palm Beach, FL 33411. | https://msc.fema.gov/portal/advanceSearch. | Feb. 9, 2021 | 120225
Sarasota | Unincorporated areas of Sarasota County (20-04-4720P). | The Honorable Michael A. Moran, Chairman, Sarasota County Board of Commissioners, 1660 Ringling Boulevard, Sarasota, FL 34236. | Sarasota County Planning and Development Services Department, 1001 Sarasota Center Boulevard, Sarasota, FL 34240. | https://msc.fema.gov/portal/advanceSearch. | Feb. 11, 2021 | 125144
Georgia:
Bryan | Unincorporated areas of Bryan County (20-04-2261P). | The Honorable Carter Infinger, Chairman, Bryan County Board of Commissioners, P.O. Box 430, Pembroke, GA 31321. | Bryan County Department of Community Development, 66 Captain Matthew Freeman Drive, Suite 201, Richmond Hill, GA 31324. | https://msc.fema.gov/portal/advanceSearch. | Feb. 5, 2021 | 130016
Douglas | Unincorporated areas of Douglas County (20-04-2682P). | Ms. Romona Jackson Jones, Chair, Douglas County Board of Commissioners, 8700 Hospital Drive, 3rd Floor, Douglasville, GA 30134. | Douglas County Engineering Division, 8700 Hospital Drive, 1st Floor, Douglasville, GA 30134. | https://msc.fema.gov/portal/advanceSearch. | Feb. 16, 2021 | 130306
Maine:
Kennebec | City of Waterville (20-01-0604P). | Mr. Michael Roy, Manager, City of Waterville, 1 Common Street, Waterville, ME 04901. | Town Hall, 1 Common Street, Waterville, ME 04901. | https://msc.fema.gov/portal/advanceSearch. | Feb. 19, 2021 | 230070
Knox | Town of Vinalhaven (20-01-0545P). | Mr. Andrew J. Dorr, Manager, Town of Vinalhaven, 19 Washington School Road, Vinalhaven, ME 04863. | Planning and Community Development Department, 19 Washington School Road, Vinalhaven, ME 04863. | https://msc.fema.gov/portal/advanceSearch. | Jan. 29, 2021 | 230230
Montana: Gallatin | City of Bozeman (20-08-0561P). | Mr. Jeff Mihelich, Manager, City of Bozeman, P.O. Box 1230, Bozeman, MT 59771. | Alfred M. Stiff Building, 20 East Olive Street, 1st Floor, Bozeman, MT 59715. | https://msc.fema.gov/portal/advanceSearch. | Mar. 1, 2021 | 300028
Pennsylvania: Lackawanna | City of Scranton (20-03-0798P). | The Honorable Paige G. Cognetti, Mayor, City of Scranton, 340 North Washington Avenue, Scranton, PA 18503. | Planning Department, 340 North Washington Avenue, Scranton, PA 18503. | https://msc.fema.gov/portal/advanceSearch. | Feb. 16, 2021 | 420538
Texas:
Atascosa | Unincorporated areas of Atascosa County (20-06-2205P). | The Honorable Robert L. Hurley, Atascosa County Judge, 1 Courthouse Circle Drive, Suite 206, Jourdanton, TX 78026. | Atascosa County Courthouse, 1 Courthouse Circle Drive, Jourdanton, TX 78026. | https://msc.fema.gov/portal/advanceSearch. | Feb. 4, 2021 | 480014
Bexar | City of San Antonio (19-06-1446P). | The Honorable Ron Nirenberg, Mayor, City of San Antonio, P.O. Box 839966, San Antonio, TX 78283. | Transportation and Capital Improvements Department, Stormwater Division, 114 West Commerce, 7th Floor, San Antonio, TX 78205. | https://msc.fema.gov/portal/advanceSearch. | Feb. 1, 2021 | 480045
Bexar | City of San Antonio (19-06-3670P). | The Honorable Ron Nirenberg, Mayor, City of San Antonio, P.O. Box 839966, San Antonio, TX 78283. | Transportation and Capital Improvements Department, Stormwater Division, 114 West Commerce, 7th Floor, San Antonio, TX 78205. | https://msc.fema.gov/portal/advanceSearch. | Jan. 25, 2021 | 480045
Collin | City of McKinney (20-06-1287P). | The Honorable George Fuller, Mayor, City of McKinney, P.O. Box 517, McKinney, TX 75070. | Engineering Department, 221 North Tennessee Street, McKinney, TX 75069. | https://msc.fema.gov/portal/advanceSearch. | Mar. 1, 2021 | 480135
Dallas | City of Dallas (20-06-0418P). | The Honorable Eric Johnson, Mayor, City of Dallas, 1500 Marilla Street, Suite 5EN, Dallas, TX 75201. | Floodplain Management Department, 320 East Jefferson Boulevard, Suite 307, Dallas, TX 75203. | https://msc.fema.gov/portal/advanceSearch. | Feb. 1, 2021 | 480171
Dallas | City of Dallas (20-06-1125P). | The Honorable Eric Johnson, Mayor, City of Dallas, 1500 Marilla Street, Suite 5EN, Dallas, TX 75201. | Floodplain Management Department, 320 East Jefferson Boulevard, Suite 307, Dallas, TX 75203. | https://msc.fema.gov/portal/advanceSearch. | Feb. 1, 2021 | 480171
Dallas | City of Farmers Branch (20-06-1125P). | The Honorable Robert C. Dye, Mayor, City of Farmers Branch, 13000 William Dodson Parkway, Farmers Branch, TX 75234. | City Hall, 13000 William Dodson Parkway, Farmers Branch, TX 75234. | https://msc.fema.gov/portal/advanceSearch. | Feb. 1, 2021 | 480174
Denton | City of Justin (20-06-1792P). | The Honorable Alan Woodall, Mayor, City of Justin, P.O. Box 129, Justin, TX 76247. | Planning and Zoning Department, 415 North College Avenue, Justin, TX 76247. | https://msc.fema.gov/portal/advanceSearch. | Feb. 16, 2021 | 480778
Guadalupe | City of Cibolo (20-06-0816P). | Mr. Robert T. Herrera, Manager, City of Cibolo, 200 South Main Street, Cibolo, TX 78108. | Geographic Information Systems (GIS) Department, 200 South Main Street, Cibolo, TX 78108. | https://msc.fema.gov/portal/advanceSearch. | Mar. 4, 2021 | 480267
Hays | Unincorporated areas of Hays County (20-06-1997P). | The Honorable Ruben Becerra, Hays County Judge, 111 East San Antonio Street, Suite 300, San Marcos, TX 78666. | Hays County Development Services Department, 2171 Yarrington Road, Kyle, TX 78640. | https://msc.fema.gov/portal/advanceSearch. | Mar. 11, 2021 | 480321
Kaufman | City of Crandall (20-06-2061P). | The Honorable Danny Kirbie, Mayor, City of Crandall, 110 South Main Street, Crandall, TX 75114. | City Hall, 110 South Main Street, Crandall, TX 75114. | https://msc.fema.gov/portal/advanceSearch. | Feb. 19, 2021 | 480409
Kaufman | Unincorporated areas of Kaufman County (20-06-2061P). | The Honorable Hal Richards, Kaufman County Judge, 100 West Mulberry Street, Kaufman, TX 75142. | Kaufman County Courthouse, 106 West Grove Street, Kaufman, TX 75142. | https://msc.fema.gov/portal/advanceSearch. | Feb. 19, 2021 | 480411
Randall | Unincorporated areas of Randall County (20-06-2051P). | The Honorable Ernie Houdashell, Randall County Judge, 501 16th Street, Suite 303, Canyon, TX 79015. | Randall County Road and Bridge Department, 301 West Highway 60, Canyon, TX 79015. | https://msc.fema.gov/portal/advanceSearch. | Feb. 19, 2021 | 480532
Tarrant | City of Benbrook (20-06-0768P). | The Honorable Jerry Dittrich, Mayor, City of Benbrook, 911 Winscott Road, Benbrook, TX 76126. | City Hall, 911 Winscott Road, Benbrook, TX 76126. | https://msc.fema.gov/portal/advanceSearch. | Feb. 16, 2021 | 480586
Tarrant | City of Crowley (20-06-1367P). | The Honorable Billy P. Davis, Mayor, City of Crowley, 201 East Main Street, Crowley, TX 76036. | City Hall, 201 East Main Street, Crowley, TX 76036. | https://msc.fema.gov/portal/advanceSearch. | Feb. 1, 2021 | 480591
Tarrant | City of Fort Worth (20-06-0768P). | The Honorable Betsy Price, Mayor, City of Fort Worth, 200 Texas Street, Fort Worth, TX 76102. | Transportation and Public Works Department, Engineering Vault, 200 Texas Street, Fort Worth, TX 76102. | https://msc.fema.gov/portal/advanceSearch. | Feb. 16, 2021 | 480596

[FR Doc. 2020-26482 Filed 11-30-20; 8:45 am]

BILLING CODE 9110-12-P